DEPARTMENT OF STATE

[Public Notice 6018]

Shipping Coordinating Committee; Notice of Meetings

Two subcommittees of the Shipping Coordinating Committee (SHC) will be holding public meetings in January 2008. Details for both meetings are provided in this notice.

I. Ship Design and Equipment

The Subcommittee on Ship Design and Equipment of the SHC will conduct an open meeting at 9:30 a.m. on Tuesday, January 22, 2008, in Room 6103 of the U.S. Coast Guard Headquarters Building, 2100 Second Street, SW., Washington, DC 20593. The primary purpose of the meeting is to prepare for the 51st session of the International Maritime Organization (IMO) Sub-Committee on Ship Design and Equipment (DE) to be held at the Maritim Hotel in Bonn, Germany from February 18 to February 22, 2008. The primary matters to be considered include:

—Amendments to resolution A.744(18) regarding longitudinal strength of tankers;

—Measures to prevent accidents with lifeboats;

—Compatibility with life-saving appliances;

—Test standards for extended service intervals of inflatable liferafts;

—Amendments to the Guidelines for ships operating in Arctic ice-covered waters;

—Revision of resolution A.760(18) regarding symbols related to life-saving appliances and arrangements;

—Guidelines for uniform operating limitations of high-speed craft;

—Consideration of International Association of Classification Societies (IACS) unified interpretations;

—Cargo oil tank coating and corrosion protection;

—Interpretation of the International Convention for the Safety of Life at Sea (SOLAS) regulations II-1/1.3 and II-1/3-6;

—Development of provisions for gas-fueled ships;

—Review of SOLAS requirements on new installation of materials containing asbestos;

—Guidelines for maintenance and repair of protective coatings;

—Requirements and standard for corrosion protection of permanent means of access arrangements;

—Performance standards for recovery systems;

—Guidelines for approval of novel-life-saving appliances;

—Guidance to ensure consistent policy for determining the need for watertight doors to remain open during navigation;

—Review of the Special Purpose Ships (SPS) Code;

—Revision of the Code on Alarms and Indicators (resolution A.830(19));

—Amendments to the Code for the Construction and Equipment of Mobile Offshore Drilling Units (MODU Code);

—Definition of the term “bulk carrier”; and

—Review of MEPC.1/Circ.511 and relevant Annex I and Annex VI requirements of the Convention for the Prevention of Pollution from Ships (MARPOL);

Hard copies of documents associated with the 50th session of the DE Sub-committee will be available at this meeting. To request further copies of documents please write to the address provided below. Members of the public may attend this meeting up to the seating capacity of the room. Interested persons may seek information by writing to Mr. Wayne Lundy, U.S. Coast Guard (CG-5213), 2100 Second Street SW., Room 1300, Washington, DC 20593-0001 or by calling (202) 372-1379.

II. Carriage of Bulk Liquids and Gases

The Subcommittee on the Carriage of Bulk Liquids and Gases of the SHC will conduct an open meeting at 9:30 a.m. on Wednesday, January 30, 2008, in Room 6103 of the United States Coast Guard Headquarters Building, 2100 Second Street, SW., Washington, DC 20593. The primary purpose of the meeting is to prepare for the 12th Session of the IMO Sub-Committee on Bulk Liquids and Gases to be held at the Royal Horticultural Halls and Conference Centre in London, England from February 4 to February 8, 2008. The primary matters to be considered include:

—Evaluation of safety and pollution hazards of chemicals and preparation of consequential amendments;

—Application of the requirements for the carriage of bio-fuels and bio-fuel blends;

—Development of guidelines for uniform implementation of the 2004 Ballast Water Management (BWM) Convention;

—Review of MARPOL Annex VI and the NOX Technical Code;

—Development of provisions for gas-fuelled ships;

—Amendments to MARPOL Annex I for the prevention of marine pollution during oil transfer operations between ships at sea;

—Development of international measures for minimizing the translocation of invasive aquatic species through bio-fouling of ships;

—Casualty analysis; and

—Consideration of IACS unified interpretations.

Members of the public may attend the meeting up to the seating capacity of the room. Interested persons may seek information by writing: Mr. T. J. Felleisen, U.S. Coast Guard (CG-5223), Room 1210, 2100 Second Street, SW., Washington, DC 20593-0001 or by calling (202) 372-1424.

Dated: December 28, 2007.
Mark W. Skolnicki,
Executive Secretary, Shipping Coordinating Committee, Department of State.

[FR Doc. E8-111 Filed 1-7-08; 8:45 am]

BILLING CODE 4710-09-P